DEPARTMENT OF AGRICULTURE

Forest Service

Transfer of Administrative Jurisdiction, Land Between the Lakes National Recreation Area, Kentucky and Tennessee

AGENCY: Forest Service, USDA.

ACTION: Notice of transfer of land.

SUMMARY: On October 23, 2002, the Deputy Assistant Secretary of the Army, and on November 20, 2002, the Southern Regional Forester of the USDA Forest Service, signed a joint order transferring administrative jurisdiction of certain lands from the Department of the Army to the USDA Forest Service.

The order transfers from the Department of the Army to the Department of Agriculture 7,518 acres, more or less, by virtue of the authority vested in the Secretary of the Army and Secretary of Agriculture by the Land Between the Lakes Protection Act of 1998 (16 U.S.C. 460lll).

A copy of the Joint Order, as signed, and Exhibits A and B, which describe the reserved rights and lands being transferred, are set out at the end of this notice.

DATES: This order will be effective on September 9, 2003.

ADDRESSES: A copy of the order of transfer as signed by the Deputy Assistant Secretary of Army and Southern Regional Forester of the USDA Forest Service, is available for public inspection in the Southern Regional Office of the USDA Forest Service, 1720 Peachtree Road, NW., Atlanta, GA 30309.

FOR FURTHER INFORMATION CONTACT: Michael O. Lange, USDA Forest Service, 1720 Peachtree Road, NW., Atlanta, GA. 30309, (404) 347-2990.

Dated: August 25, 2003.
Robert T. Jacobs,
Regional Forester, Southern Region, USDA Forest Service.

Department of the Army and Department of Agriculture; Land Between the Lakes National Recreation Area, Kentucky and Tennessee

Joint Order Transferring Administrative Jurisdiction of Department of the Army Lands to the United States Forest Service

By virtue of the authority vested in the Secretary of the Army and in the Secretary of Agriculture by the Land Between the Lakes Protection Act of 1998 (16 U.S.C. 340lll) it is ordered as follows:

(1) The lands under the jurisdiction of the Department of the Army identified in Exhibit A, attached hereto and made a part hereof, are hereby transferred from the Jurisdiction of the Secretary of the Army to the jurisdiction of the Department of Agriculture, subject to outstanding rights or interests of record, and flowage easement rights over the portion of the premises below elevation 378 mean sea level, as set out in Exhibit B. These lands were acquired by the United States in connection with the Barkley Dam and Lake Barkley Project and are within the boundary of the Land Between the Lakes National Recreation Area, Kentucky and Tennessee.

(2) Pursuant to section 512(b) of the aforesaid Land Between the Lakes Protection Act, the Department of the Army lands transferred to the Secretary of Agriculture by this order have the status of land acquired under the Act of March 1, 1911 (commonly called the “Weeks Act”) (16 U.S.C. 515 et seq.).

This order will be effective as of the date of publication in the Federal Register.

Dated: October 23, 2002.

Joseph W. Whitaker,

Deputy Assistant Secretary of the Army, Installations and Housing,

Dated: November 20, 2002.

Robert T. Jacobs,

Regional Forester, Southern Region, USDA Forest Service.

Exhibit A—Legal Description

A tract of land lying along the westerly shore of Lake Barkley, situated in Lyon and Trigg Counties, Kentucky, and in Stewart County, Tennessee, the boundary of which is described as follows:

Beginning at a point located on the 378-foot contour (mean sea level) as it lies along the Westerly shore of Lake Barkley. Said point having KY State Plane Coordinates: N 248,750; E 1,282,136 and identified as Corner 2CN-8 on TVA Map titled “Land Between The Lakes Reservation”, drawing number 421B511-6, dated December, 1968. Thence leaving said contour and proceeding N 45°E (grid bearing) approximately 200 feet to the 359-foot contour;

Thence southerly along said 359-foot contour (msl) as it lies along the Westerly shore of Lake Barkley to a point intersecting the easterly edge of an old road (TN State Plane Coordinates: N 782,160; E 1,445,870), said point being along the westerly bank of Rawls Pond and lying approximately 30 feet east of a Sandstone Bluff;

Thence Southerly along the east edge of said road 0.35 mile to a 6″ diameter Well Casing (TN SPC: N 780,439; E 1,446,413);

Thence 5 feet east to a fence; thence Southerly along and with said fence 820 feet to a drainage ditch;

Thence N 65°37′E 675 feet to a 26″ diameter Red Oak in an existing fence line (TN SPC: N 779,902; E 1,447,025);

Thence Southeasterly along and with said fence approximately 0.6 mile to a point intersecting the South Boundary of Land Between the Lakes (LBL), said point marked by a concrete monument (Corner 10PS-1, TN SPC: N 777,592; E 1,448,808), as shown on TVA Map title “Land Between the Lakes Reservation”, drawing number 421B511-1, dated December, 1968;

Thence Westerly along the South Boundary of LBL approximately 30 feet to a point intersecting the 378-foot contour (msl);

Thence along said 378-foot contour (msl) as it meanders in a northerly direction along the westerly shore of Lake Barkley to the Point of Beginning, said tract of land containing 7,518 acres, more or less.

Exhibit B

The right is reserved as may be necessary for the operation of the Barkley Dam and Lake Barkley Project to occasionally overflow, flood, and submerge that portion of the lands described in the attached Exhibit A lying below elevation 378 mean sea level, and to maintain mosquito control in connection with the operation and maintenance of the Barkley Dam and Lake Barkley Project as authorized by the Act of Congress approved 3 September 1954 (Public Law 780, 83rd Congress, 2d Session) and the continuing right to clear and remove any brush, debris, and natural obstruction which, in the opinion of the representative in charge, may be detrimental to the project; provided that no structure for human habitation shall be constructed or maintained on the land, and further provided that no other structure shall be constructed or maintained on the land and no excavation or filling may be performed except as may be approved in writing by said representative of the United States in charge of the project.

[FR Doc. 03-22877 Filed 9-8-03; 8:45 am]

BILLING CODE 3410-11-M